ENVIRONMENTAL PROTECTION AGENCY

[FRL-6579-7]

Agency Information Collection Activities: Submission for OMB Review; Comment Request NSPS, Flexible Vinyl and Urethane Coating and Printing

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS Subpart FFF, New Source Performance Standards for Flexible Vinyl and Urethane Coating and Printing, OMB Control Number 2060-0073 which expires on June 30, 2000. The ICR describes the nature of the information collection and its expected burden and cost; where appropriate, it includes the actual data collection instrument.

DATES: Comments must be submitted on or before May 17, 2000.

FOR FURTHER INFORMATION CONTACT: For a copy of the ICR contact Sandy Farmer at EPA by phone at (202) 260-2740, by E-Mail at Farmer.Sandy@epamail.epa.gov or download off the Internet at http://www.epa.gov/icr and refer to EPA ICR No.1157.06. For technical questions about the ICR contact Ginger Gotliffe at (202) 564-7072.

SUPPLEMENTARY INFORMATION: Title: NSPS Subpart FFF, New Source Performance Standards for Flexible Vinyl and Urethane Coating and Printing (OMB Control No. 2060-0073 ; EPA ICR No.1157.06) expiring 06/30/00. This is a request for extension of a currently approved collection.

Abstract: The New Source Performance Standards (NSPS) for Flexible Vinyl and Urethane Coating and Printing were promulgated on June 29, 1984 (49 FR 26892).The effective date was January 18, 1983.

These standards of performance for this category of new stationary sources of hazardous air pollutants are required by Section 111 of the Clean Air Act. Facilities may meet the standards by using materials with a low concentration of Volatile Organic compounds (VOCs), or by installing emission control devices. The information that is required to be submitted to the Agency or kept at the facility is needed to insure compliance with the regulation. These include initial one time notifications, performance tests plans and reports and records of maintenance and shutdown, startup, and malfunctions. For facilities that install CMS there are performance tests, and maintenance reports. Excess emissions reports are submitted semiannually. Responses to the collection of information are mandatory (NSPS 60 Subpart FFF).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 10/29/99 (64 FR 58396 ); no comments were received.

Burden Statement: The annual public reporting and recordkeeping burden for this collection of information is estimated to average 16 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: owners or operators of rotogravure lines: print/coat flexible vinyl/urethance products.

Estimated Number of Respondents: 10.

Frequency of Response: one time notifications, semiannual reports, and monthly recordkeeping.

Estimated Total Annual Hour Burden: 329.

Estimated Total Annualized Capital, O&M Cost Burden: $52,000.

Send comments on the Agency's need for this information, the accuracy of the provided burden estimates, and any suggested methods for minimizing respondent burden, including through the use of automated collection techniques to the following addresses. Please refer to EPA ICR No.1157.06 and OMB Control No.2060-0073 in any correspondence.

Ms. Sandy Farmer, U.S. Environmental Protection Agency, Office of Environmental Information, Collection Strategies Division (2822), 1200 Pennsylvania Ave., NW, Washington, DC 20460;

and

Office of Information and Regulatory Affairs, Office of Management Budget, Attention: Desk Officer for EPA 725 17th Street, NW, Washington, DC 20503

Dated: April 4, 2000.
Oscar Morales,
Director, Collection Strategies Division.

[FR Doc. 00-9384 Filed 4-14-00; 8:45 am]

BILLING CODE 6560-50-P